DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Capital Construction Fund Agreement, Certificate Family of Forms and Deposit/Withdrawal Report.

OMB Control Number: 0648-0041.

Form Number(s): NOAA Form 34-82; NOAA Form 88-14; Certificate Family of Forms.

Type of Request: Regular submission (extension of a current information collection).

Number of Respondents: 1,000 (NOAA Form 34-82); 50 (NOAA Form 88-14); 550 (Certificate Family of Forms).

Average Hours per Response: 3.5 hours (NOAA Form 34-82); 0.5 hours (NOAA Form 88-14); 1.0 hour (Certificate Family of Forms).

Burden Hours: 4,075.

Needs and Uses: NOAA Form 34-82, NOAA Form 88-14 and the Certificate Family of Forms are used to facilitate meeting the continuing recordkeeping requirements of the Capital Construction Fund (CCF) program. The Merchant Marine Act of 1936, as amended by Public Law 91-469 and Public Law 99-514, provides for the administration of a Capital Construction Fund (CCF) Program by the National Marine Fisheries Service (NMFS). The CCF is a tax deferral program which allows participating fishermen to defer tax on vessel income deposited into the Fund and provides for recapture of the deferred tax by reducing an Agreement vessel's basis by the amount withdrawn for its construction, acquisition and/or reconstruction. Program requirements are detailed at 50 CFR part 259.

Affected Public: Business or other for-profit organizations.

Frequency: Once per year (NOAA Form 34-82); Once when applying for program benefits (NOAA Form 88-14); Varies depending on project intent (Certificate Family of Forms).

Respondent's Obligation: To remain compliant, active Agreement holders must submit NOAA Form 34-82 along with a copy of their Federal income tax return not later than 30 days after the deadline, with extensions, for filing their tax return. The Certificate Family of Forms is completed prior to project commencement at a minimum of once every ten years. New applicants are required to complete a written Agreement (NOAA Form 88-14) and application related documents in the Certificate Family of Forms only once, as part of their packet submission.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-05913 Filed 3-27-19; 8:45 am]

BILLING CODE 3510-22-P